FEDERAL COMMUNICATIONS COMMISSION

[GN Docket No. 17-208; FRS 16599]

Meeting of the Federal Advisory Committee on Diversity and Digital Empowerment

AGENCY: Federal Communications Commission.

ACTION: Notice.

SUMMARY: In accordance with the Federal Advisory Committee Act, this notice announces the April 28, 2020, telephonic and electronic-only meeting of the Federal Communications Commission's (Commission) Advisory Committee on Diversity and Digital Empowerment (ACDDE).

DATES: Tuesday, April 28, 2020, from 10:00 a.m. to 4:00 p.m.

ADDRESSES: The ACDDE meeting will be held via conference call and will be available to the public via the internet at http://www.fcc.gov/live.

FOR FURTHER INFORMATION CONTACT: Jamila Bess Johnson, Designated Federal Officer (DFO) of the ACDDE, (202) 418-2608, Jamila-Bess.Johnson@fcc.gov; Julie Saulnier, Deputy DFO of the ACDDE, (202) 418-1598, Julie.Saulnier@fcc.gov; or Jamile Kadre, Deputy DFO of the ACDDE, (202) 418-2245, Jamile.Kadre@fcc.gov.

SUPPLEMENTARY INFORMATION:

Proposed Agenda: The agenda for the meeting will include a report from each of the ACDDE working groups. The Access to Capital Working Group will report on its ongoing examination of ways to improve access to capital in order to encourage management and ownership of broadcast properties by a diverse range of voices, including minorities and women. The Digital Empowerment and Inclusion Working Group will discuss its work assessing access, adoption, and use of broadband and new technologies by under-resourced communities. The Diversity in the Tech Sector Working Group will report on its progress in examining issues pertaining to hiring, promotion, and retention of women and minorities in tech industries. This agenda may be modified at the discretion of the ACDDE Chair and the DFO.

The Committee's mission is to provide recommendations to the Commission on how to empower disadvantaged communities and accelerate the entry of small businesses, including those owned by women and minorities, into the media, digital news and information, and audio and video programming industries, including as owners, suppliers, and employees.

The ACDDE meeting is accessible to the public on the internet via live feed from the FCC's web page at www.fcc.gov/live. Members of the public may submit comments to the ACDDE using the FCC's Electronic Comment Filing System, ECFS, at www.fcc.gov/ecfs. Comments to the ACDDE should be filed in GN Docket No. 17-208.

Open captioning will be provided for this event. Other reasonable accommodations for persons with disabilities are available upon request. Requests for such accommodations should be submitted via email to fcc504@fcc.gov or by calling the Consumer and Governmental Affairs Bureau at (202) 418-0530 (voice), (202) 418-0432 (TTY). Such requests should include a detailed description of the accommodation needed. In addition, please include a way for the Commission to contact the requester if more information is needed to fulfill the request.

Please allow at least five days' notice; last minute requests will be accepted but may not be possible to accommodate.

Federal Communications Commission.
Cecilia Sigmund,
Federal Register Liaison Officer, Office of the Secretary.

[FR Doc. 2020-06676 Filed 3-30-20; 8:45 am]

BILLING CODE 6712-01-P